DEPARTMENT OF THE INTERIOR

Bureau of Land Management

[A2407-014-004-065516; #O2412-014-004-047181.1; OROR106392649]

Application for Withdrawal and Opportunity for Public Meeting, Whitehorse Ranch Project, Oregon

AGENCY: Bureau of Land Management, Interior.

ACTION: Notice of withdrawal application.

SUMMARY: The United States Department of the Air Force (DAF), has filed an application with the Bureau of Land Management (BLM) requesting that the Secretary of the Interior withdraw 4,988 acres of public lands from settlement, sale, location, and entry under the general land laws, including the United States mining laws, mineral and geothermal leasing laws, for 20 years—subject to valid existing rights—and reserve the lands for use of the DAF for military purposes. The DAF has also requested that the Secretary transfer administrative jurisdiction over these lands to the Secretary of the Air Force.

DATES: Comments and requests for a public meeting must be received by December 29, 2025.

ADDRESSES: All comments and meeting requests should be sent to the BLM Oregon/Washington State Director, 1220 SW 3rd Ave., Portland, Oregon 97204. The application and case file are available for public examination by interested persons by appointment at the BLM Public Room, 1220 SW 3rd Ave., 11th Floor, Portland, Oregon 97208 during regular business hours 9:00 a.m. to 3:30 p.m., Monday through Friday except holidays. Please call 503-808-6001 to make an appointment.

FOR FURTHER INFORMATION CONTACT: Luke Poff, Realty Specialist, BLM Oregon/Washington State Office by telephone: 503-808-6249; email: lpoff@blm.gov, or at the address noted above in the ADDRESSES section. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The DAF requests this withdrawal for the purpose of constructing, operating, and maintaining the Homeland Defense Over the Horizon Radar receiver site facilities. Federal Register publication of this notice temporarily segregates the lands from settlement, sale, location, or entry under the general land laws, including the United States mining laws, and from leasing under the mineral and geothermal leasing laws, for 2 years, subject to valid existing rights. This notice also advises the public of a 90-day opportunity to comment and to request a public meeting on the withdrawal application.

The following described lands are the subject of the DAF's withdrawal application: A parcel of land situated in T. 35 S., R. 37 E., secs. 35 and 36, and T. 36 S., R. 37 E., secs. 1, 2, 10 thru 16, and 21 thru 25, Willamette Meridian, Malheur County, Oregon, more particularly described as follows:

Beginning at the cor. of secs. 2, 3, 34, and 35, on the N. bdy. of T. 36 S., R. 37 E., the Point of Beginning;

thence along the line bet. secs. 2 and 35, N. 88°21′02″ E., 2645.10 feet, to the ¼ sec. cor. of secs. 2 and 35, on the N. bdy. of T. 36 S., R. 37 E.;

thence along the N. and S. center line of sec. 35, T. 35 S., R. 37 E., N. 1°40′46″ W., 1251.23 feet;

thence leaving said center line, S. 69°37′52″ E., 4859.85 feet;

thence S. 20°23′07″ W., 1810.97 feet;

thence S. 69°37′49″ E., 4432.97 feet, to the line bet. secs. 1 and 6, on the E. bdy. of T. 36 S., R. 37 E.;

thence along the line bet. secs. 1 and 6, and the line bet. secs. 7 and 12, on the E. bdy. of T. 36 S., R. 37 E., S. 1°38′38″ E., 2085.14 feet;

thence leaving said section line, S. 9°46′58″ W., 1786.00 feet;

thence S. 30°09′28″ W., 2256.31 feet;

thence S. 61°50′42″ W., 644.30 feet, to the easterly boundary of a corridor for a road to be built;

thence along said corridor boundary, S. 3°38′33″ E., 2885.44 feet;

thence leaving said corridor boundary, S. 48°32′42″ E., 247.68 feet;

thence S. 3°29′21″ E., 474.32 feet;

thence S. 11°31′39″ W., 629.15 feet, to the southeasterly boundary of a corridor for a road to be built;

thence along said corridor boundary, S. 35°00′12″ W., 3184.73 feet, to the easterly boundary of another corridor for a different road to be built;

thence along said corridor boundary the following twelve (12) courses and distances:

1. S. 19°59′48″ E., 638.89 feet, to Whitehorse Ranch Road, more or less;

2. S. 5°43′23″ W., 493.82 feet;

3. S. 11°15′55″ E., 283.63 feet;

4. S. 3°37′23″ W., 277.03 feet;

5. S. 38°21′53″ W., 322.25 feet;

6. S. 28°16′39″ W., 195.78 feet;

7. S. 2°44′31″ W., 1310.65 feet;

8. S. 17°36′03″ E., 631.67 feet;

9. S. 10°16′55″ E., 608.49 feet;

10. S. 12°03′06″ E., 355.49 feet;

11. S. 23°25′30″ E., 2412.99 feet;

12. S. 31°58′15″ E., 792.25 feet;

thence leaving said corridor boundary, N. 72°27′16″ E., 222.41 feet;

thence S. 17°32′44″ E., 370.63 feet;

thence S. 72°27′16″ W., 48.58 feet;

thence S. 17°32′44″ E., 112.67 feet;

thence S. 72°27′16″ W., 287.21 feet;

thence N. 17°32′44″ W., 422.31 feet, to the westerly boundary of a corridor for a road to be built;

thence along said corridor boundary the following eighteen (18) courses and distances:

1. N. 31°58′15″ W., 832.40 feet;

2. N. 23°25′30″ W., 711.50 feet;

3. N. 26°46′11″ W., 120.68 feet;

4. N. 25°25′10″ W., 211.77 feet;

5. N. 23°23′38″ W., 346.30 feet;

6. N. 23°53′57″ W., 627.49 feet;

7. N. 20°45′44″ W., 417.84 feet;

8. N. 12°03′06″ W., 369.86 feet;

9. N. 10°13′54″ W., 605.36 feet;

10. N. 17°40′51″ W., 643.26 feet;

11. N. 2°44′31″ E., 1361.40 feet;

12. N. 28°16′39″ E., 235.14 feet;

13. N. 38°21′53″ E., 294.23 feet;

14. N. 3°39′31″ E., 219.02 feet;

15. N. 11°09′36″ W., 290.52 feet;

16. N. 7°27′49″ E., 198.79 feet;

17. N. 19°59′48″ W., 276.93 feet, to Whitehorse Ranch Road, more or less;

18. N. 19°59′48″ W., 590.06 feet, to the southwesterly boundary of another corridor for a different road to be built;

thence along said corridor boundary the following three (3) courses and distances:

1. N. 74°59′48″ W., 1267.48 feet;

2. N. 33°52′25″ W., 1272.58 feet;

3. N. 69°28′16″ W., 514.92 feet;

thence leaving said corridor boundary, S. 58°44′03″ W., 234.53 feet;

thence N. 69°36′52″ W., 1746.62 feet;

thence S. 20°23′08″ W., 2189.40 feet;

thence S. 69°36′23″ E., 514.00 feet;

thence S. 20°23′08″ W., 1743.40 feet;

thence S. 86°05′22″ W., 1811.42 feet;

thence N. 46°53′52″ W., 538.28 feet;

thence N. 70°20′18″ W., 1101.79 feet;

thence N. 60°54′06″ W., 674.46 feet;

thence N. 69°36′52″ W., 3231.46 feet;

thence N. 44°51′34″ W., 442.83 feet;

thence N. 69°39′36″ W., 1831.86 feet;

thence N. 20°11′03″ E., 4857.41 feet, to the line bet. secs. 9 and 16, T. 36 S., R. 37 E.;

thence along said section line, N. 88°21′21″ E., 383.58 feet, to the cor. of secs. 9, 10, 15, and 16, T. 36 S., R. 37 E.;

thence along the line bet. secs. 9 and 10, N. 1°39′59″ W., 5309.62 feet, to the cor. of secs. 3, 4, 9, and 10, T. 36 S., R. 37 E.;

thence along the line bet. secs. 3 and 10, N. 88°17′41″ E., 5276.06 feet, to the cor. of secs. 2, 3, 10, and 11, T. 36 S., R. 37 E.;

thence along the line bet. secs. 2 and 3, N. 1°12′12″ W., 5291.75 feet, to the cor. of secs. 2, 3, 34, and 35, on the N. bdy. of T. 36 S., R. 37 E., the Point of Beginning.

Containing 4,988 acres of land, more or less.

Basis of Bearing: GIS.

The use of a right-of-way, interagency agreement, or cooperative agreement would not adequately constrain non-discretionary uses which could impede DAF's construction, operating, and maintenance of the radar systems.

The DAF will satisfy water requirements by constructing two on-site groundwater wells, adjacent to each water supply building. A third well is required for backup.

The DAF identified, visited, and surveyed 16 potential sites in the region and found there are no suitable alternative sites based on the DAF's seven siting criteria areas (Mission, Schedule, Acquisition, Electromagnetic environment, Environmental impacts, Construction, and Supportability).

For a period of 90 days from the date of publication of this notice, all persons who wish to submit comments, suggestions, or objections in connection with the withdrawal application may present their views in writing to the BLM Oregon/Washington State Director at the address listed above in the ADDRESSES section.

Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives of officials of organizations or businesses, will be made available for public inspection in their entirety.

This withdrawal application will be processed in accordance with the regulations set forth in 43 CFR part 2300.

(Authority: 43 U.S.C. 1714.)

Dustin Webster-Wharton,
Branch Chief—Land, Mineral, & Energy Resources.

[FR Doc. 2025-18832 Filed 9-26-25; 8:45 am]

BILLING CODE 4331-24-P